OFFICE OF GOVERNMENT ETHICS

5 CFR Part 2641

RIN 3209-AA14

Post-Employment Conflict of Interest Regulations; Exempted Senior Employee Positions; Withdrawal of Final Rule

AGENCY: Office of Government Ethics (OGE).

ACTION: Withdrawal of final rule.

SUMMARY: The Office of Government Ethics is withdrawing the final rule “Post-Employment Conflict of Interest Regulations; Exempted Senior Employee Positions” published October 3, 2013, at 78 FR 61153.

DATES: Effective Date: The final rule published on October 3, 2013, at 78 FR 61153 is withdrawn, effective November 25, 2013.

FOR FURTHER INFORMATION CONTACT: Christopher J. Swartz, Assistant Counsel, Ethics Law & Policy Branch, Office of Government Ethics; telephone: 202-482-9300; TTY: 800-877-8339; FAX: 202-482-9237.

SUPPLEMENTARY INFORMATION: On October 3, 2013, the U.S. Office of Government Ethics (OGE) published a final rule in the Federal Register, at 78 FR 61153, concerning the revocation of certain regulatory exemptions of senior employee positions at the Securities and Exchange Commission (SEC) from the one-year post-employment restrictions of 18 U.S.C. 207(c) and (f). Pursuant to the rulemaking action taken on October 3, 2013, the revocation of regulatory exemptions for covered positions at the SEC, as well as the removal of those exempted positions from Appendix A to 5 CFR part 2641, was to be effective on January 2, 2014. At the request of the SEC, OGE is now withdrawing its final rule of October 3, 2013, to allow the SEC time to effectively educate affected employees before the exemption revocation takes effect. For that reason, the notice of revocation is being rescinded and the final rule withdrawn. Positions that would have been affected by the issuance of October 3, 2013, shall continue to be exempted from the prohibitions of 18 U.S.C. 207(c) and (f), until 90 days from such time that OGE republishes notice of revocation in the Federal Register. OGE anticipates republishing this notice and final rule in January 2014.

Approved: November 19, 2013.
Walter M. Shaub, Jr.,
Director, Office of Government Ethics.

[FR Doc. 2013-28156 Filed 11-22-13; 8:45 am]

BILLING CODE 6345-03-P